DEPARTMENT OF THE INTERIOR

Bureau of Land Management

[(ES-960-1910-BJ-4377) ES-48651, Group 159, Wisconsin]

Notice of Cancellation of Plat of Survey and Filing of Plat of Survey; Wisconsin

The plat accepted March 14, 1997 published in the Federal Register on March 24, 1997, has been cancelled effective November 29, 2001.

The plat of the corrective dependent resurvey of a portion of the subdivisional lines, and the subdivision of section 14, Township 40 North, Range 4 East, Fourth Principal Meridian, Wisconsin, will be officially filed in Eastern States, Springfield, Virginia at 7:30 a.m., on February 4, 2002.

The survey was requested by the Bureau of Indian Affairs.

All inquiries or protests concerning the technical aspects of the survey must be sent to the Chief Cadastral Surveyor, Eastern States, Bureau of Land Management, 7450 Boston Boulevard, Springfield, Virginia 22153, prior to 7:30 a.m., February 4, 2002.

Copies of the plat will be made available upon request and prepayment of the appropriate fee.

Dated: November 29, 2001.
Corwyn J. Rodine,
Chief Cadastral Surveyor.

[FR Doc. 01-31752 Filed 12-26-01; 8:45 am]

BILLING CODE 4310-GJ-P